ENVIRONMENTAL PROTECTION AGENCY

EPA-HQ-OAR-2022-0070; FRL-13137-01-OMS]

Agency Information Collection Activities; Submission to the Office of Management and Budget for Review and Approval; Comment Request; NSPS for Flexible Vinyl and Urethane Coating and Printing (Renewal)

AGENCY: Environmental Protection Agency (EPA).

ACTION: Notice.

SUMMARY: The Environmental Protection Agency (EPA) has submitted an information collection request (ICR), NSPS for Flexible Vinyl and Urethane Coating and Printing (EPA ICR Number 1157.14, OMB Control Number 2060-0073) to the Office of Management and Budget (OMB) for review and approval in accordance with the Paperwork Reduction Act. This is a proposed extension of the ICR, which is currently approved through December 31, 2025. Public comments were previously requested via the Federal Register on August 6, 2024 during a 60-day comment period. This notice allows for an additional 30 days for public comments.

DATES: Comments may be submitted on or before January 20, 2026.

ADDRESSES: Submit your comments, referencing Docket ID Number EPA-HQ-OAR-2022-0070, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through December 31, 2025. An agency may not conduct or sponsor and a person is not required to respond to a collection of information unless it displays a currently valid OMB control number.

Public comments were previously requested via the Federal Register on August 6, 2024 during a 60-day comment period (89 FR 63933). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The New Source Performance Standards (NSPS) for Flexible Vinyl and Urethane Coating and Printing were promulgated on June 29, 1984; and amended on October 17, 2000. These regulations apply to facilities with rotogravure printing lines used to either print or coat flexible vinyl or urethane products for which construction, modification or reconstruction commenced after January 18, 1983. This information is being collected to assure compliance with 40 CFR part 60, subpart FFF. In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to the NSPS.

Form Numbers: None.

Respondents/affected entities: Facilities with rotogravure printing lines used to either print or coat flexible vinyl or urethane products.

Respondent's obligation to respond: Mandatory (40 CFR part 60, subpart FFF).

Estimated number of respondents: 43 (total).

Frequency of response: Initially, annually, semiannually.

Total estimated burden: 1,360 hours (per year). Burden is defined at 5 CFR 1320.03(b).

Total estimated cost: $809,000 (per year), which includes $623,000 annualized capital or operation & maintenance costs.

Changes in the Estimates: The increase in burden and costs from the most recently approved ICR is due to an adjustment. The adjustment is due to an increase in the number of new or modified sources. The capital and O&M costs also increased due to the number of respondents. Additionally, the capital and O&M costs were increased from 2007 $ to 2024 $ using the CEPCI CE Index.

Courtney Kerwin,
Deputy Director, Data and Enterprise Programs Division.

[FR Doc. 2025-23271 Filed 12-17-25; 8:45 am]

BILLING CODE 6560-50-P